DEPARTMENT OF VETERANS AFFAIRS

[OMB Control No. 2900-0005]

Agency Information Collection Activity under OMB Review: Application For Dependency and Indemnity Compensation by Parent(s) (Including Accrued Benefits and Death Compensation when Applicable)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before March 7, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0005” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0005” in any correspondence.

SUPPLEMENTARY INFORMATION:

Authority: 38 U.S.C. 1121, 1310, 5121.

Title: Application For Dependency and Indemnity Compensation by Parent(s) (Including Accrued Benefits and Death Compensation when Applicable)

OMB Control Number: 2900-0005.

Type of Review: Extension without change of a currently approved collection.

Abstract: 38 U.S.C. 1121 and 1310 provide for payment of Dependency and Indemnity Compensation (DIC) or death compensation to parents of a Veteran whose death is service-connected. Parents must also meet income limitations to be eligible for benefits. 38 U.S.C. 5121 provides for payment of accrued benefits. VBA uses 21P-535 to collect the information necessary to determine a surviving parent's eligibility to Parents' DIC benefits.

An agency may not conduct or sponsor, and a person is not required to respond to a collection of information unless it displays a currently valid OMB control number. The Federal Register Notice with a 60-day comment period soliciting comments on this collection of information was published at XX FR XXXXX on December XX, 2017.

Affected Public: Individuals or Households.

Estimated Annual Burden: 4,320.

Estimated Average Burden per Respondent: 72 minutes.

Frequency of Response: Once.

Estimated Number of Respondents: 3,600.

By direction of the Secretary.
Cynthia Harvey-Pryor,
Department Clearance Officer, Office of Quality, Privacy and Risk, Department of Veterans Affairs.

[FR Doc. 2018-02215 Filed 2-2-18; 8:45 am]

BILLING CODE 8320-01-P